ENVIRONMENTAL PROTECTION AGENCY

40 CFR Part 52

[EPA-R10-OAR-2023-0195; FRL-10612-02-R10]

Air Plan Approval; Idaho; Inspection and Maintenance Program Removal

AGENCY: Environmental Protection Agency (EPA).

ACTION: Final rule.

SUMMARY: On March 30, 2023, the Environmental Protection Agency (EPA) proposed to approve revisions to the Idaho State Implementation Plan (SIP) submitted by the State of Idaho (Idaho or the State) on December 29, 2022. The SIP revision, applicable in the Boise-Northern Ada County Carbon Monoxide area (Northern Ada County CO area) in Idaho, removes the Inspection and Maintenance (I/M) program, which was previously approved into the SIP for use as a control measure in the State's plan to address motor vehicle emissions in the nonattainment area. The SIP revision included a demonstration that the requested revision would not interfere with attainment or maintenance of any national ambient air quality standard (NAAQS) or with any other applicable requirement of the Clean Air Act (CAA). The EPA is taking final action to approve Idaho's December 29, 2022, submission.

DATES: This action is effective on July 17, 2023.

ADDRESSES: The EPA has established a docket for this action under Docket ID No. EPA-R10-OAR-2023-0195. All documents in the docket are listed on the https://www.regulations.gov website. Although listed in the index, some information is not publicly available, e.g., CBI or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Claudia Vaupel, EPA Region 10 at (206) 553-6121, or vaupel.claudia@epa.gov.

SUPPLEMENTARY INFORMATION: Throughout this document, wherever “we,” “us,” or “our” is used, it means the EPA.

I. Background

On December 29, 2022, Idaho submitted a SIP revision to remove the Inspection and Maintenance (I/M) program in the Northern Ada County Carbon Monoxide (CO) area. The submission included a demonstration that the requested revision would not interfere with attainment or maintenance of any national ambient air quality standard (NAAQS) or with any other applicable requirement of the Clean Air Act (CAA). Idaho's submission also requested that the EPA remove the ordinances in Table 1 of this preamble from the Idaho SIP.

Table 1—Local I/M Ordinances That Idaho Requests Be Removed From the Northern Ada County CO SIP
Local agency | Ordinance title | Local agency approval date
Air Quality Board | Motor Vehicle Emissions Control Ordinance | 1/1/2010
Ada County | The 1999 Motor Vehicle Emissions Control Ordinance | 6/15/1999
City of Boise | The 1999 Motor Vehicle Emissions Control Ordinance | 7/20/1999
City of Eagle | The 1999 Motor Vehicle Emissions Control Ordinance | 4/27/1999
City of Garden City | The 1991 Vehicle Emission Control Ordinance | 8/13/1996
City of Meridian | The 1999 Motor Vehicle Emissions Control Ordinance | 6/1/1999

The EPA proposed to approve Idaho's SIP revision on March 30, 2023 (88 FR 19030). Subsequently, on April 21, 2023, the EPA made a correction to the docket number in the proposed rule and extended the public comment period to May 22, 2023 (88 FR 24522). An explanation of the CAA requirements, a detailed analysis of the submission, and the EPA's reasons for approval were provided in the notice of proposed rulemaking. The EPA did not receive comments on the proposed rulemaking and is taking final action to approve Idaho's December 29, 2022, submission.

II. Incorporation by Reference

In this document, the EPA is finalizing regulatory text that includes incorporation by reference. The EPA is removing the local ordinances identified in section I of this preamble from the Idaho State Implementation Plan, which is incorporated by reference under 1 CFR part 51.

III. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and it will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

Idaho did not evaluate EJ considerations as part of its SIP submission; the CAA and applicable implementing regulations neither prohibit nor require such an evaluation. The EPA did not perform an EJ analysis and did not consider EJ in this action. Consideration of EJ is not required as part of this action, and there is no information in the record inconsistent with the stated goal of Executive Order 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the CAA, petitions for judicial review of this action must be filed in the United States Court of Appeals for the appropriate circuit by August 14, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Authority: 42 U.S.C. 7401 et seq.

Dated: June 8, 2023.
Casey Sixkiller,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670:

a. The table in paragraph (c) is amended by removing entries “Ada County Ordinance”, “City of Boise Ordinance”, “City of Eagle Ordinance”, “City of Garden City Ordinance” and “City of Meridian Ordinance”; and

b. The table in paragraph (e) is amended by adding an entry for “Northern Ada County Carbon Monoxide Limited Maintenance Plan Revision” at the end of the table.

The addition reads as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Northern Ada County Carbon Monoxide Limited Maintenance Plan Revision | Northern Ada County | 12/29/2022 | 6/15/2023, [INSERT Federal Register CITATION] | Removal of I/M program.

[FR Doc. 2023-12699 Filed 6-14-23; 8:45 am]

BILLING CODE 6560-50-P